NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on July 6-8, 2005, 11545 Rockville Pike, Rockville, Maryland. The date of this meeting was previously published in the Federal Register on Wednesday, November 24, 2004 (69 FR 68412).

Wednesday, July 6, 2005, Conference Room T-2B3, Two White Flint North, Rockville, Maryland

8:30 a.m.-8:35 a.m.: Opening Remarks by the ACRS Chairman (Open)—The ACRS—Chairman will make opening remarks regarding the conduct of the meeting.

8:35 a.m.-10 a.m.: Final Review of the License Renewal Application for Donald C. Cook Nuclear Plant, Units 1 and 2 (Open)—The Committee will hear presentations by and hold discussions with representatives of the Indiana Michigan Power Company and the NRC staff regarding the license renewal application for Donald C. Cook Nuclear Plant, Units 1 and 2 and the associated final Safety Evaluation Report prepared by the NRC staff.

10:15 a.m.-12:15 p.m.: Final Safety Evaluation Report Related to North Anna Early Site Permit Application (Open)—The Committee will hear presentations by and hold discussions with representatives of the Dominion North Anna, LLC and the NRC staff regarding the NRC staff's Final Safety Evaluation report related to the North Anna Early Site Permit Application.

1:45 p.m.-3:15 p.m.: Draft Final Regulatory Guide, DG-1137, “Guidelines for Lightning Protection for Nuclear Power Plants” (Open)—The Committee will hear presentations by and hold discussions with representatives of the NRC staff regarding the draft final revision to Regulatory Guide DG-1137, and the NRC staff's resolution of public comments.

3:30 p.m.-5 p.m.: Draft Final Revision 2 to Regulatory Guide 1.152, “Criteria for Use of Computers in Safety Systems of Nuclear Power Plants” (Open)—The Committee will hear presentations by and hold discussions with representatives of the NRC staff regarding the draft final revision 2 to Regulatory Guide 1.152, and the NRC staff's resolution of public comments.

5:15 p.m.-7 p.m.: Preparation of ACRS Reports (Open)—The Committee will discuss proposed ACRS reports on matters considered during this meeting as well as proposed reports on responding to the Commission request in the April 26, 2005 Staff Requirements Memorandum regarding the ACRS assessment of the quality of the NRC research projects, and on the draft Commission paper on policy issues related to new plant licensing,

Thursday, July 7, 2005, Conference Room T-2B3, Two White Flint North, Rockville, Maryland

8:30 a.m.-8:35 a.m.: Opening Remarks by the ACRS Chairman (Open)—The ACRS Chairman will make opening remarks regarding the conduct of the meeting.

8:35 a.m.-9:30 a.m.: Subcommittee Reports (Open)—The Committee will hear a report by the Chairman of the ACRS Subcommittee on Digital Instrumentation and Control (I&C) Systems regarding the digital I&C research plan and other related matters that were discussed at the June 14-15, 2005 Subcommittee meeting. Also, the Committee will hear a report by the Chairman of the Joint ACRS Subcommittee on Reliability and Probabilistic Risk Assessment and on Plant Operations regarding the Risk-Management Technical Specifications and related matters that were discussed at the June 15, 2005 Subcommittee meeting.

9:30 a.m.-10:30 a.m.: Status Report/Interim Results of the Quality Assessment of Selected NRC Research Projects (Open)—The Committee will hear reports by the Chairmen of the ACRS Panels regarding the status/interim results of the quality assessment of the NRC research projects on Standardized Plant Analysis Risk (SPAR) models and on the Steam Generator Tube Integrity Program at the Argonne National Laboratory.

10:45 a.m.-11:45 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

11:45 a.m.-12 noon: Reconciliation of ACRS Comments and Recommendations (Open)—The Committee will discuss the responses from the NRC Executive Director for Operations (EDO) to comments and recommendations included in recent ACRS reports and letters.

1:30 p.m.-4:30 p.m.: Preparation of ACRS Reports (Open)—The Committee will discuss proposed ACRS reports.

4:45 p.m.-6:45 p.m.: Safeguards and Security Matters (Closed), Room T-8E8. The Committee will hear presentations by and hold discussions with representatives of the NRC staff regarding the safeguards and security matters. (Note: This session will be closed to protect information classified as national security information and safeguards information pursuant to 5 U.S.C. 552b(c)(1) and (3).)

Friday, July 8, 2005, Conference Room T-2B3, Two White Flint North, Rockville, Maryland

8:30 a.m.-4 p.m.: Preparation of ACRS Reports (Open)—The Committee will continue its discussion of proposed ACRS reports.

4 p.m.-4:30 p.m.: Miscellaneous (Open)—The Committee will discuss matters related to the conduct of Committee activities and matters and specific issues that were not completed during previous meetings, as time and availability of information permit.

Procedures for the conduct of and participation in ACRS meetings were published in the Federal Register on October 5, 2004 (69 FR 59620). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Pub. L. 92-463, I have determined that it is necessary to close a portion of this meeting noted above to discuss and protect information classified as national security information and safeguards information pursuant to 5 U.S.C. 552b(c)(1) and (3).

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4:15 p.m., ET.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Dated: June 13, 2005.
Annette Vietti-Cook,
Secretary of the Commission.

[FR Doc. E5-3132 Filed 6-16-05; 8:45 am]

BILLING CODE 7590-01-P